DEPARTMENT OF AGRICULTURE

Agricultural Marketing Service

[Document No. AMS-LP-20-0003]

National Research, Promotion, and Consumer Information Programs; Request for Extension and Revision of a Currently Approved Information Collection

AGENCY: Agricultural Marketing Service, USDA.

ACTION: Notice and request for comments.

SUMMARY: In accordance with the Paperwork Reduction Act of 1995, this document announces the Agricultural Marketing Service's (AMS) intention to request approval from the Office of Management and Budget (OMB), for an extension of and revision to the currently approved information collection of the National Research, Promotion, and Consumer Information Programs.

DATES: Comments must be received by May 4, 2020.

ADDRESSES: Interested persons are invited to submit written comments concerning this notice. Comments should be submitted on the internet at http://www.regulations.gov or to Research and Promotion, Livestock and Poultry Program, AMS, U.S. Department of Agriculture (USDA), 1400 Independence Avenue SW, STOP 0251, Room 2610-S, Washington, DC 20250-0251. All comments should reference the document number, the date and the page number of this issue of the Federal Register and will be made available for public inspection in the above office during regular business hours or at http://www.regulations.gov.

FOR FURTHER INFORMATION CONTACT: Elizabeth R. Flores, Acting Deputy Director, Research and Promotion Division, Livestock and Poultry Program, AMS, USDA, 1400 Independence Avenue SW, STOP 0251, Room 2610-S, Washington, DC 20250-0251; telephone at (202) 260-8593, or by email at elizabethr.flores@usda.gov.

SUPPLEMENTARY INFORMATION:

Title: National Research, Promotion, and Consumer Information Programs.

OMB Number: 0581-0093.

Expiration Date of Approval: August 31, 2020.

Type of Request: Extension and Revision of a currently approved information collection.

Abstract: National research and promotion programs are designed to strengthen the position of a commodity in the marketplace, maintain and expand existing domestic and foreign markets, and develop new uses and markets for specified agricultural commodities. AMS has the responsibility for implementing and overseeing programs for a variety of commodities including beef, blueberries, cotton, dairy, eggs, fluid milk, Hass avocados, honey, lamb, mangos, mushrooms, paper and paper-based packaging, peanuts, popcorn, pork, potatoes, softwood lumber, sorghum, soybeans, and watermelons. The enabling legislation includes the Beef Promotion and Research Act of 1985 [7 U.S.C. 2901-2911]; the Cotton Research and Promotion Act of 1966 [7 U.S.C. 2101-2118]; the Dairy Production Stabilization Act of 1983 [7 U.S.C. 4501-4514]; the Fluid Milk Promotion Act of 1990 [7 U.S.C. 6401-6417]; the Egg Research and Consumer Information Act [7 U.S.C. 2701-2718]; the Hass Avocado Promotion, Research, and Information Act [7 U.S.C. 7801-7813]; the Mushroom Promotion, Research, and Consumer Information Act of 1990 [7 U.S.C. 6101-6112]; the Popcorn Promotion, Research, and Consumer Information Act [7 U.S.C. 7481-7491]; the Pork Promotion, Research, and Consumer Information Act of 1985 [7 U.S.C. 4801-4819]; the Potato Research and Promotion Act [7 U.S.C. 2611-2627]; the Soybean Promotion, Research, and consumer Information Act [7 U.S.C. 6301-6311]; the Watermelon Research and Promotion Act [7 U.S.C. 4901-4916]; and the Commodity Promotion, Research, and Information Act of 1996 [7 U.S.C. 7411-7425] (which governs the blueberry, honey, lamb, mango, paper and paper-based packaging, peanut, softwood lumber, and sorghum programs). These programs appear in the Code of Federal Regulations 7 CFR, parts 1150 and 1160, and parts 1205 through 1260.

These programs carry out projects relating to research, consumer information, advertising, sales, promotion, producer information, market development, and product research to assist, improve, or promote the marketing, distribution, and utilization of their respective commodities. Approval of the programs is required through referendum of affected parties. The programs are administered by the industry boards composed of producer, handler, processor, manufacturers, and in some cases, importer and public members appointed by the Secretary of Agriculture. Program funding is generated through assessments on designated industry segments.

The Secretary also approves the board's budgets, plans, and projects. These responsibilities have been delegated to AMS. The applicable commodity program areas within AMS have direct oversight of the respective programs.

The information collection requirements in this request are essential to carry out the intents of the various Acts authorizing such programs, thereby providing a means of administering the programs. The objective in carrying out this responsibility includes assuring the following: (1) Funds are collected and properly accounted for; (2) expenditures of all funds are for the purposes authorized by the enabling legislation; and, (3) the board's administration of programs conforms to USDA policy. The forms covered under this collection require the minimum information necessary to effectively carry out the requirements of the respective orders, and their use is necessary to fulfill the intents of the Acts as expressed in orders. The information collected is used only by authorized employees of the various boards and authorized employees of USDA.

The various boards utilize a variety of forms including: Reports concerning status information such as handler and importer reports; transaction reports; exemption from assessment forms and reimbursement forms; forms and information concerning board nominations and selection and acceptance statements; certification of industry organizations; and recordkeeping requirements. The forms and information covered under this information collection require minimum information necessary to effectively carry out the requirements of the programs and their use is necessary to fulfill the intent of the applicable authority.

As part of this renewal collection for the National Research, Promotion, and Consumer Information Programs (0581-0093), AMS is deleting all references to the processed raspberry program as termination of the program was favored by a majority of eligible producers and importers voting in a referendum from September 10 through October 5, 2018. The termination order was published in the Federal Register on September 24, 2019 (Vol. 84, No. 185).

Two previously approved OMB packages are merged into this submission for renewal and approval:

For National Sheep Improvement Center

Estimate of Burden: Public reporting burden for this collection information is estimated to average 0.50 hours per response.

Respondents: Sheep and goat producers.

Estimated Number of Respondents: 10.

Estimated Total Annual Responses: 20.

Estimated Number of Responses per Respondent: 1 per year per form.

Estimated Total Annual Burden on Respondents: 6 hours.

For Soybean Promotion, Research, and Consumer Information; Beef Promotion and Research; Amendments To Allow Redirection of State Assessments to the National Program

Estimate of Burden: Public reporting burden for this collection information is estimated to average 0.0830 hours per response.

Respondents: Soybean and beef producers.

Estimated Number of Respondents: 30.

Estimated Total Annual Responses: 30.

Estimated Number of Responses per Respondent: 1 per year per form.

Estimated Total Annual Burden on Respondents: 2.49 hours.

AMS is committed to comply with the E-Government Act, which requires Government agencies in general to provide the public the option of submitting information or transacting business electronically to the maximum extent possible.

For National Research, Promotion, and Consumer Information Program—0581-0093

Estimate of Burden: Public reporting burden for this collection of information is estimated to average 1.27 hours per response.

Respondents: Producers, processors, handlers, manufacturers, importers, and others in the marketing chain of a variety of agricultural commodities, and recordkeepers.

Estimated Number of Respondents: 118,232.

Estimated Total Annual Responses: 439,447.

Estimated Number of Responses per Respondent: 3.72.

Estimated Total Annual Burden on Respondents: 149,909 hours.

Comments are invited on: (1) Whether the proposed collection of information is necessary for the proper performance of functions of the agency, including whether the information will have practical utility; (2) the accuracy of the agency's estimate of burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Authority: 44 U.S.C. Chapter 35.

Dated: February 26, 2020.
Bruce Summers,
Administrator, Agricultural Marketing Service.

[FR Doc. 2020-04281 Filed 3-2-20; 8:45 am]

BILLING CODE 3410-02-P